DEPARTMENT OF AGRICULTURE

Animal and Plant Health Inspection Service

[Docket No. APHIS-2016-0094]

Notice of Decision To Revise Conditions Governing the Importation of Fresh Peppers From the Republic of Korea Into the Continental United States

AGENCY: Animal and Plant Health Inspection Service, USDA.

ACTION: Notice.

SUMMARY: We are advising the public of our decision to revise the conditions regarding the importation into the continental United States of peppers from the Republic of Korea. We have decided that the mesh size of screenings over vent openings can be increased from 0.6 mm to 1.6 mm, provided that sticky traps are used as an additional measure for pest monitoring. This action modifies the conditions under which peppers from the Republic of Korea may be imported into the continental United States while continuing to protect against the introduction of quarantine pests.

DATES: The conditions governing the importation of peppers from the Republic of Korea into the continental United States are revised as of May 9, 2019.

FOR FURTHER INFORMATION CONTACT: Ms. Carol Kreger, Regulatory Policy Specialist, PPQ, APHIS, 4700 River Road, Unit 133, Riverdale, MD 20737; (301) 851-2356, email: Carol.M.Kreger@aphis.usda.gov.

SUPPLEMENTARY INFORMATION: Under the regulations in “Subpart L—Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 of the regulations provides the requirements for authorizing the new importation of fruits and vegetables into the United States, as well as for revising existing requirements for the importation of fruits and vegetables. Paragraph (c) of that section provides that the name and origin of all fruits and vegetables authorized importation into the United States, as well as the requirements for their importation, are listed on the internet in APHIS' Fruits and Vegetables Import Requirements database, or FAVIR (https://epermits.aphis.usda.gov/manual). It also provides that, if the Administrator determines that any of the phytosanitary measures listed in FAVIR as required for the importation of a particular fruit or vegetable are no longer necessary to reasonably mitigate the plant pest risk posed by the fruit or vegetable, APHIS will publish a notice in the Federal Register making its pest risk analysis and determination available for public comment.

The importation of fresh peppers from the Republic of Korea into the continental United States has been authorized since June 2006. One of the conditions for the importation of the peppers is that they must be grown in a pest-exclusionary greenhouse approved by and registered with the national plant protection organization (NPPO) of the Republic of Korea. In order for the greenhouse to be considered pest-exclusionary, among other requirements, we required any openings other than the doors to be covered with 0.6 mm or less screening to prevent the entry of pests into the structure.

On April 20, 2018, we published in the Federal Register (83 FR 17501-17503, Docket No. APHIS-2016-0094) a proposal ¹ to amend the regulations regarding the importation of fresh peppers from the Republic of Korea into the continental United States. We proposed to allow the screenings to be 1.6 mm in diameter or less, provided that the structure had present yellow and blue sticky traps, at a density agreed upon by APHIS and the NPPO of the Republic of Korea, to monitor for levels of thrips activity.

¹ To view the proposed rule, supporting documents, and the comment we received, go to https://www.regulations.gov/docket?D=APHIS-2016-0094.

We solicited comments on the proposed rule for 60 days ending on June 19, 2018. We received one comment by that date, from the NPPO of the Republic of Korea.

The NPPO asked whether both yellow and blue sticky traps had to be used within the pest-exclusionary greenhouses, or whether our intent was to allow yellow or blue sticky traps to be used. The NPPO pointed out that both colors of traps are effective for thrips.

Our intent was to require either type of trap to be used; we do not require both to be used.

The NPPO also informed us that they had changed their acronym from NPQS to APQA. The proposed rule had referred to the old acronym.

Finally, we note that the proposed rule was issued prior to the October 15, 2018, effective date of a final rule ² that revised the regulations in § 319.56-4 by broadening an existing performance standard to provide that all revisions to existing requirements for the importation of fruits and vegetables into the United States will use a notice-based process. With those changes to the regulations, it is necessary for us to finalize this action through the issuance of a notice rather than a final rule.

² To view the final rule, go to https://www.regulations.gov/docket?D=APHIS-2010-0082.

Therefore, in accordance with the regulations in § 319.56-4(c)(4)(ii), we are announcing our decision to revise the conditions governing the importation of fresh peppers from Korea into the continental United States as discussed in this notice. The revised requirements will be listed in FAVIR.

Paperwork Reduction Act

In accordance with section 3507(d) of the Paperwork Reduction Act of 1995 (44 U.S.C. 3501 et seq.) and as noted in the proposed rule, the burden requirements included in this notice are approved by the Office of Management and Budget (OMB) under OMB control number 0579-0282.

E-Government Act Compliance

The Animal and Plant Health Inspection Service is committed to compliance with the E-Government Act to promote the use of the internet and other information technologies, to provide increased opportunities for citizen access to Government information and services, and for other purposes. For information pertinent to E-Government Act compliance related to this notice, please contact Ms. Kimberly Hardy, APHIS' Information Collection Coordinator, at (301) 851-2483.

Authority: 7 U.S.C. 1633, 7701-7772, and 7781-7786; 21 U.S.C. 136 and 136a; 7 CFR 2.22, 2.80, and 371.3.

Done in Washington, DC, this 3rd day of May 2019.
Kevin Shea,
Administrator, Animal and Plant Health Inspection Service.

[FR Doc. 2019-09514 Filed 5-8-19; 8:45 am]

BILLING CODE 3410-34-P